SMALL BUSINESS ADMINISTRATION

[License No. 09/09-0462]

Hercules Technology III, LP; Surrender of License of Small Business Investment Company

Pursuant to the authority granted to the United States Small Business Administration under the Small Business Investment Act of 1958, as amended, under Section 309 of the Act and Section 107.1900 of the Small Business Administration Rules and Regulations (13 CFR 107.1900) to function as a small business investment company under the Small Business Investment Company License No. 09/09-0462 issued to Hercules Technology III, LP, said license is hereby declared null and void.

United States Small Business Administration.
Thomas G. Morris,
Acting Associate Administrator, Director, Office of SBIC Liquidation, Office of Investment and Innovation.

[FR Doc. 2021-13496 Filed 6-24-21; 8:45 am]

BILLING CODE P